Presidential Determination No. 2002-16 of April 18, 2002

Determination to Authorize the Furnishing of Emergency Military Assistance to the Government of Nigeria

Memorandum for the Secretary of State, the Secretary of Defense

Pursuant to the authority vested in me by section 506(a)(1) of the Foreign Assistance Act of 1961, as amended, 22 U.S.C. 2318(a)(1) (the “Act”), I hereby determine that:

(1) an unforeseen emergency exists that requires immediate military assistance to the Government of Nigeria; and

(2) the emergency requirement cannot be met under the authority of the Arms Export Control Act or any other law except section 506(a) of the Act.

I therefore direct the drawdown of defense articles and defense services from the Department of Defense, and military education and training, of an aggregate value not to exceed $4 million, to provide assistance to the Government of Nigeria.

The Secretary of State is authorized and directed to report this determination to the Congress and to arrange for its publication in the Federal Register.

B

THE WHITE HOUSE,

Washington, April 18, 2002.

[FR Doc. 02-10319

Filed 04-24-02; 8:45 am]

Billing code 4710-10-P